DEPARTMENT OF ENERGY

Federal Energy Regulatory Commission

[Docket No. ER05-718-000]

California Independent System Operator Corporation; Notice of FERC Staff Attendance

May 20, 2005.

The Federal Energy Regulatory Commission (Commission) hereby gives notice that on May 20, 2005, members of its staff will participate in a conference call on settlement of pre-dispatched inter-tie bids, hosted by the California Independent System Operator (CAISO). This call is a follow-up to the April 28 stakeholder meeting, and is an opportunity for stakeholder feedback.

Sponsored by the CAISO, the meeting is open to all stakeholders, and staff's attendance is part of the Commission's ongoing outreach efforts. The meeting may discuss matters at issue in Docket No. ER05-718-000.

For further information, contact Katherine Gensler at Katherine.gensler@ferc.gov. (916) 294-0275.

Linda Mitry,
Deputy Secretary.

[FR Doc. E5-2661 Filed 5-25-05; 8:45 am]

BILLING CODE 6717-01-P